DEPARTMENT OF ENERGY

Office of Energy Efficiency and Renewable Energy

[Case No. CAC-029]

Petition for Waiver From DaikinAC (Americas) Inc. and Granting of the Interim Waiver From the Department of Energy Commercial Package Air Conditioner and Heat Pump Test Procedure

AGENCY: Office of Energy Efficiency and Renewable Energy, Department of Energy.

ACTION: Notice of petition for waiver, granting of application for interim waiver, and request for comments.

SUMMARY: This notice announces receipt of and publishes a petition for waiver from DaikinAC (Americas) Inc. (Daikin). The petition for waiver (hereafter “petition”) requests a waiver from the U.S. Department of Energy (DOE) test procedure applicable to commercial package air-source central air conditioners and heat pumps. The petition is specific to the Daikin variable capacity VRV III-PB variable refrigerant flow (VRF) commercial multi-split heat pumps (“VRV III-PB multi-split heat pumps”). Through this document, DOE: solicits comments, data, and information with respect to the Daikin petition; and announces the grant of an interim waiver to Daikin from the existing DOE test procedure for the subject commercial multi-split heat pumps.

DATES: DOE will accept comments, data, and information with respect to the Daikin petition until, but no later than May 6, 2011.

ADDRESSES: You may submit comments, identified by case number “CAC-029,” by any of the following methods:

• Federal eRulemaking Portal: http://www.regulations.gov. Follow the instructions for submitting comments.

• E-mail: AS_Waiver_Requests@ee.doe.gov. Include the case number [CAC-029] in the subject line of the message.

• Mail: Ms. Brenda Edwards, U.S. Department of Energy, Building Technologies Program, Mailstop EE-2J/1000 Independence Avenue, SW., Washington, DC 20585-0121. Telephone: (202) 586-2945. Please submit one signed original paper copy.

• Hand Delivery/Courier: Ms. Brenda Edwards, U.S. Department of Energy, Building Technologies Program, 950 L'Enfant Plaza, SW., Suite 600, Washington, DC 20024. Please submit one signed original paper copy.

Docket: For access to the docket to review the background documents relevant to this matter, you may visit the U.S. Department of Energy, 950 L'Enfant Plaza, SW., (Resource Room of the Building Technologies Program), Washington, DC 20024; (202) 586-2945, between 9 a.m. and 4 p.m., Monday through Friday, except on Federal holidays. Available documents include the following items: (1) This notice; (2) public comments received; (3) the petition for waiver and application for interim waiver; and (4) prior DOE rulemakings regarding similar central air conditioning and heat pump equipment. Please call Ms. Brenda Edwards at the above telephone number for additional information regarding visiting the Resource Room.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: AS_Waiver_Requests@ee.doe.gov.

Ms. Jennifer Tiedeman, U.S. Department of Energy, Office of the General Counsel, Mail Stop GC-71, Forrestal Building, 1000 Independence Avenue, SW., Washington, DC 20585-0103. Telephone: (202) 287-6111. E-mail: Jennifer.Tiedeman@hq.doe.gov.

SUPPLEMENTARY INFORMATION:

I. Background and Authority

Title III, part C of the Energy Policy and Conservation Act of 1975 (EPCA), Public Law 94-163 (42 U.S.C. 6311-6317, as codified), added by Public Law 95-619, Title V, § 441(a), established the Energy Conservation Program for Certain Industrial Equipment, a program covering certain industrial equipment, which includes the VRV III-PB variable refrigerant flow (VRF) commercial multi-split heat pumps (“VRV III-PB multi-split heat pumps”) that are the focus of this notice.¹ Part C specifically includes definitions (42 U.S.C. 6311), test procedures (42 U.S.C. 6314), labeling provisions (42 U.S.C. 6315), energy conservation standards (42 U.S.C. 6313), and the authority to require information and reports from manufacturers. 42 U.S.C. 6316. With respect to test procedures, part C authorizes the Secretary of Energy (the Secretary) to prescribe test procedures that are reasonably designed to produce results that measure energy efficiency, energy use, and estimated annual operating costs, and that are not unduly burdensome to conduct. (42 U.S.C. 6314(a)(2))

¹ For editorial reasons, upon codification in the U.S. Code, part C was re-designated part A-1.

For commercial package air-conditioning and heating equipment, EPCA provides that “the test procedures shall be those generally accepted industry testing procedures or rating procedures developed or recognized by the Air-Conditioning and Refrigeration Institute [ARI] or by the American Society of Heating, Refrigerating and Air-Conditioning Engineers [ASHRAE], as referenced in ASHRAE/IES Standard 90.1 and in effect on June 30, 1992.” (42 U.S.C. 6314(a)(4)(A)) Under 42 U.S.C. 6314(a)(4)(B), the statute further directs the Secretary to amend the test procedure for a covered commercial product if the industry test procedure is amended, unless the Secretary determines, by rule and based on clear and convincing evidence, that such a modified test procedure does not meet the statutory criteria set forth in 42 U.S.C. 6314(a)(2) and (3).

On December 8, 2006, DOE published a final rule adopting test procedures for commercial package air-conditioning and heating equipment, effective January 8, 2007. 71 FR 71340. For commercial air-source heat pumps, DOE adopted ARI Standard 340/360-2004. Table 1 to Title 10 of the Code of Federal Regulations (10 CFR) 431.96 directs manufacturers of commercial package air conditioning and heating equipment to use the appropriate procedure when measuring energy efficiency of those products. The cooling capacities of Daikin's VRV III-PB multi-split heat pumps at issue in the waiver petition filed by Daikin range from 72,000 Btu/h to 360,000 Btu/h. All of this equipment is covered by ARI Standard 340/360-2004, which includes units with capacities greater than 65,000 Btu/hour.

DOE's regulations for covered products permit a person to seek a waiver from the test procedure requirements for covered commercial equipment if at least one of the following conditions is met: (1) The petitioner's basic model contains one or more design characteristics that prevent testing according to the prescribed test procedures; or (2) the prescribed test procedures may evaluate the basic model in a manner so unrepresentative of its true energy consumption as to provide materially inaccurate comparative data. 10 CFR 431.401(a)(1). Petitioners must include in their petition any alternate test procedures known to the petitioner to evaluate the basic model in a manner representative of its energy consumption. 10 CFR 431.401(b)(1)(iii). The Assistant Secretary for Energy Efficiency and Renewable Energy (Assistant Secretary) may grant a waiver subject to conditions, including adherence to alternate test procedures. 10 CFR 431.401(f)(4). Waivers remain in effect pursuant to the provisions of 10 CFR 431.401(g).

The waiver process also permits parties submitting a petition for waiver to file an application for interim waiver of the applicable test procedure requirements. 10 CFR 431.401(a)(2). The Assistant Secretary will grant an interim waiver request if it is determined that the applicant will experience economic hardship if the application for interim waiver is denied, if it appears likely that the petition for waiver will be granted, and/or the Assistant Secretary determines that it would be desirable for public policy reasons to grant immediate relief pending a determination on the petition for waiver. 10 CFR 431.401(e)(3). An interim waiver remains in effect for 180 days or until DOE issues its determination on the petition for waiver, whichever occurs first. It may be extended by DOE for an additional 180 days. 10 CFR 431.401(e)(4).

II. Petition for Waiver

On November 22, 2010, Daikin filed a petition for waiver from the test procedure at 10 CFR 431.96 applicable to commercial package air source central air conditioners and heat pumps, as well as an application for interim waiver. The capacities of Daikin's VRV III-PB multi-split heat pumps range from 72,000 Btu/h to 360,000 Btu/h. The applicable test procedure for commercial air-source heat pumps is ARI 340/360-2004. Manufacturers are directed to use these test procedures pursuant to Table 1 of 10 CFR 431.96.

Daikin seeks a waiver from the applicable test procedure under 10 CFR 431.96 on the grounds that its VRV III-PB multi-split heat pumps contain design characteristics that prevent testing according to the current DOE test procedure. Specifically, Daikin asserts that the two primary factors that prevent testing of its multi-split variable speed products are the same factors stated in the waivers that DOE granted to Mitsubishi Electric & Electronics USA, Inc. (Mitsubishi) and other manufacturers for similar lines of commercial multi-split air-conditioning systems:

• Testing laboratories cannot test products with so many indoor units; and

• There are too many possible combinations of indoor and outdoor units to test. 69 FR 52660 (August 27, 2004) (Mitsubishi waiver); 72 FR 17528 (April 9, 2007) (Mitsubishi waiver); 72 FR 71387 (Dec. 17, 2007) (Samsung waiver); 72 FR 71383 (Dec. 17, 2007) (Fujitsu waiver); 73 FR 39680 (July 10, 2008) Daikin waiver); 74 FR 15955 (April 8, 2009) (Daikin waiver); 74 FR 16193 (April 9, 2009) (Daikin waiver); 74 FR 16373 (April 10, 2009) (Daikin waiver).

The VRV III-PB multi-split heat pump systems have operational characteristics similar to the commercial multi-split products manufactured by Mitsubishi, Samsung, Fujitsu and Daikin. As indicated above, DOE has already granted waivers for this equipment. The VRV III-PB multi-split heat pump system consists of multiple indoor units connected to an air-cooled outdoor unit. The indoor units for this equipment are available in a very large number of potential configurations, including: 4-Way Cassette, Wall Mounted, Ceiling Suspended, Floor Standing, Ceiling Concealed, and Multi Position AHU. There are over one million combinations possible with the current Daikin VRV III-PB product offerings. It is impractical for testing laboratories to test this equipment because of the number of potential system configurations. Consequently, Daikin requested that DOE grant a waiver from the applicable test procedure for its VRV III-PB multi-split heat pump equipment designs until a suitable test method can be prescribed.

III. Application for Interim Waiver

On November 22, 2010, Daikin also submitted an application for an interim waiver. DOE has determined that Daikin's application for interim waiver does not provide sufficient market, equipment price, shipments, and other manufacturer impact information to permit DOE to evaluate the economic hardship Daikin might experience absent a favorable determination on its application for an interim waiver. DOE understands, however, that if it did not issue an interim waiver, Daikin's equipment would not be tested and rated for energy consumption on an equal basis with equivalent equipment for which DOE has previously granted waivers. This would place Daikin at a competitive disadvantage. Furthermore, DOE has determined that it appears likely that Daikin's petition for waiver will be granted and that it is desirable for public policy reasons to grant Daikin immediate relief pending a determination on the petition for waiver. DOE believes that it is likely Daikin's petition for waiver for the new VRV III-PB multi-split heat pump models will be granted because, as noted above, DOE has previously granted a number of waivers for similar product designs.² The two principal reasons supporting the grant of the previous waivers also apply to Daikin's VRV III-PB multi-split heat pump equipment: (1) Test laboratories cannot test equipment with so many indoor units; and (2) it is impractical to test so many combinations of indoor units with each outdoor unit. In addition, DOE believes that similar equipment should be tested and rated for energy consumption on a comparable basis. For these same reasons, DOE also determined that it is desirable for public policy reasons to grant immediate relief pending a determination on the petition for waiver.

² DOE notes that it has also previously granted interim waivers to Fujitsu (70 FR 5980 (Feb. 4, 2005)), Samsung (70 FR 9629 (Feb. 28, 2005)), Mitsubishi (72 FR 17533 (April 9, 2007)), and Daikin (72 FR 35986 (July 2, 2007)), for comparable commercial multi-split air conditioners and heat pumps.

Therefore, it is ordered that:

The application for interim waiver filed by Daikin is hereby granted for Daikin's VRV III-PB multi-split heat pumps, subject to the specifications and conditions below.

1. Daikin shall not be required to test or rate its VRV III-PB multi-split heat pump equipment on the basis of the existing test procedures under 10 CFR 431.96, which incorporates by reference ARI 340/360-2004.

2. Daikin shall be required to test and rate its VRV III-PB multi-split heat pump equipment according to the alternate test procedure as set forth in section IV(3), “Alternate test procedure.”

The interim waiver applies to the following basic model groups:

VRV III-PB multi-split heat pump series outdoor units:

• 460V/3-phase/60 Hz Models:

○ Heat Pump models RXYQ72PBYD, RXYQ96PBYD, RXYQ120PBYD, RXYQ144PBYD, RXYQ168PBYD, RXYQ192PBYD, RXYQ216PBYD, RXYQ240PBYD, RXYQ264PBYD, RXYQ288PBYD, RXYQ312PBYD, RXYQ336PBYD, RXYQ360PBYD with nominal cooling capacities of 72,000, 96,000, 120,000, 144,000, 168,000, 192,000, 216,000, 240,000, 264,000, 288,000, 312,000, 336,000 and 360,000 Btu/hr respectively.

○ Heat Recovery models REYQ72PBYD, REYQ96PBYD, REYQ120PBYD, REYQ144PBYD (2x REMQ72PBYD), REYQ168PBYD (1x REMQ96PBYD + 1x REMQ72PBYD), REYQ192PBYD (2x REMQ96PBYD), REYQ216PBYD (1x REMQ120PBYD + 1x REMQ96PBYD), REYQ240PBYD (2x REMQ120PBYD), REYQ264PBYD (1x REMQ72PBYD + 2x REMQ96PBYD), REYQ288PBYD (1x REMQ120PBYD + 1x REMQ96PBYD + 1x REMQ72PBYD), REYQ312PBYD (2x REMQ96PBYD + 1x REMQ120PBYD), REYQ336PBYD (2x REMQ120PBYD + 1x REMQ96PBYD), with nominal cooling capacities of 72,000, 96,000, 120,000, 144,000, 168,000, 192,000, 216,000, 240,000 264,000, 288,000, 312,000 and 336,000 Btu/hr respectively.

• 208-230V/3-phase/60 Hz Models:

○ Heat Pump models RXYQ72PBTJ, RXYQ96PBTJ, RXYQ120PBTJ, RXYQ144PBTJ, RXYQ168PBTJ, RXYQ192PBTJ, RXYQ216PBTJ, RXYQ240PBTJ, RXYQ264PBTJ, RXYQ288PBTJ, RXYQ312PBTJ, RXYQ336PBTJ, RXYQ360PBTJ with nominal cooling capacities of 72,000, 96,000, 120,000, 144,000, 168,000, 192,000, 216,000, 240,000, 264,000, 288,000, 312,000, 336,000 and 360,000 Btu/hr respectively.

○ Heat Recovery models REYQ72PBTJ, REYQ96PBTJ, REYQ120PBTJ, REYQ144PBTJ, REYQ168PBTJ (1x REMQ96PBTJ + 1x REMQ72PBTJ), REYQ192PBTJ (2x REMQ96PBTJ), REYQ216PBTJ (1x REMQ120PBTJ + 1x REMQ96PBTJ), REYQ240PBTJ (2x REMQ120PBTJ), REYQ264PBTJ (1x REMQ72PBTJ + 2x REMQ96PBTJ), REYQ288PBTJ (1x REMQ120PBTJ + 1x REMQ96PBTJ + 1x REMQ72PBTJ), REYQ312PBTJ (2x REMQ96PBTJ + 1x REMQ120PBTJ), REYQ336PBTJ (2x REMQ120PBTJ + 1x REMQ96PBTJ), with nominal cooling capacities of 72,000, 96,000, 120,000, 144,000, 168,000, 192,000, 216,000, 240,000 264,000, 288,000, 312,000 and 336,000 Btu/hr respectively.

• Compatible indoor units for above listed outdoor units:

○ FXAQ Series all mounted indoor units with nominal capacities of 7,500, 9,500, 12,000, 18,000 and 24,000 Btu/hr.

○ FXLQ Series floor mounted indoor units with nominal capacities of 12,000, 18,000 and 24,000 Btu/hr.

○ FXNQ Series concealed floor mounted indoor units with nominal capacities of 12,000, 18,000 and 24,000 Btu/hr.

○ FXDQ Series low static ducted indoor units with nominal capacities of 7,500, 9,500, 12,000, 18,000 and 24,000 Btu/hr.

○ FXSQ Series medium static ducted indoor units with nominal capacities of 7,500, 9,500, 12,000, 18,000, 24,000, 30,000, 36,000 and 48,000 Btu/hr.

○ FXMQ Series medium/high static ducted indoor units with nominal capacities of 7,500, 9,500, 12,000, 18,000, 24,000, 30,000, 36,000, 48,000, 72,000 and 96,000 Btu/hr.

○ FXZQ Series recessed cassette indoor units with nominal capacities of 7,500, 9,500, 12,000 and 18,000 Btu/hr.

○ FXFQ Series recessed cassette indoor units with nominal capacities of 9,500, 12,000, 18,000, 24,000, 30,000, 36,000 and 48,000 Btu/hr.

○ FXHQ Series ceiling suspended indoor units with nominal capacities of 12,000, 24,000 and 36,000 Btu/hr.

○ FXTQ Series ceiling suspended indoor units with nominal capacities of 12,000, 18,000, 24,000, 30,000, 36,000, 42,000, 48,000 and 54,000 Btu/hr.

○ FXMQ-MF Series concealed ducted indoor units with nominal capacities of 48,000, 72,000, and 96,000 Btu/hr.

This interim waiver is issued on the condition that the statements, representations, and documents provided by the petitioner are valid. DOE may revoke or modify this interim waiver at any time if it determines the factual basis underlying the petition for waiver is incorrect or the results from the alternate test procedure are unrepresentative of the basic models' true energy consumption characteristics.

IV. Alternate Test Procedure

In responses to two petitions for waiver from Mitsubishi, DOE specified an alternate test procedure to provide a basis upon which Mitsubishi could test and make valid energy efficiency representations for its R410A CITY MULTI equipment, as well as for its R22 multi-split equipment. Alternate test procedures related to the Mitsubishi petitions were published in the Federal Register on April 9, 2007. See 72 FR 17528 and 72 FR 17533. For reasons similar to those published in these prior notices, DOE believes that an alternate test procedure is appropriate in this instance.

DOE understands that existing testing facilities have limited ability to test multiple indoor units simultaneously. This limitation makes it impractical for manufacturers to test the large number of possible combinations of indoor and outdoor units for some variable refrigerant flow zoned systems. We further note that after DOE granted a waiver for Mitsubishi's R22 multi-split products, ARI formed a committee to discuss testing issues and to develop a testing protocol for variable refrigerant flow systems. The committee has developed a test procedure which has been adopted by the American National Standards Institute (AHRI)—“American National Standards Institute (ANSI)/AHRI 1230-2010: Performance Rating of Variable Refrigerant Flow (VRF) Multi-Split Air-Conditioning and Heat Pump Equipment.” This test procedure has been incorporated into ASHRAE 90.1—2010. Daikin's petition proposes that DOE apply ANSI/AHRI Standard 1230-2010 as the alternate test procedure to apply to itsVRV III-PB multi-split heat pump equipment as a condition of its requested waiver and interim waiver. The commercial multi-split waivers that DOE has granted to Mitsubishi and several other manufacturers do not conflict with ANSI/AHRI 1230-2010 because DOE has taken the ANSI/AHRI standard into account in developing its multi-split alternate test procedure. Essentially, the waivers use a definition of “tested combination” that is not in ARI 340/360-2004, but is substantially the same as the definition in ANSI/AHRI 1230-2010.

The definition in AHRI 1230-2010 reads:

3.25 Tested Combination. A sample basic model comprised of units that are production units, or are representative of production units, of the basic model being tested. The tested combination shall have the following features:

a. The basic model of a variable refrigerant flow system (“VRF system”) used as a tested combination shall consist of an outdoor unit (an outdoor unit can include multiple outdoor units that have been manifolded into a single refrigeration system, with a specific model number) that is matched with between 2 and 5 indoor units (for systems with nominal cooling capacities greater than 150,000 Btu/h [43,846 W], the number of indoor units may be as high as 8 to be able to test non-ducted indoor unit combinations)

b. The indoor units shall:

b.1 Represent the highest sales model family as determined by type of indoor unit, e.g. ceiling cassette, wall-mounted, ceiling concealed, etc. If 5 are insufficient to reach capacity, another model family can be used for testing.

b.2 Together, have a nominal cooling capacity between 95% and 105% of the nominal cooling capacity of the outdoor unit.

b.3 Not, individually, have a nominal cooling capacity greater than 50% of the nominal cooling capacity of the outdoor unit, unless the nominal cooling capacity of the outdoor unit is 24,000 Btu/h [7016 W] or less.

b.4 Have a fan speed that is consistent with the manufacturer's specifications.

b.5 All be subject to the same minimum external static pressure requirement while being configurable to produce the same static pressure at the exit of each outlet plenum when manifolded as per section 2.4.1 of 10 CFR part 430, subpart B, Appendix M.

This is the alternate test procedure language used in the recent DOE waivers:

(B) Tested combination. The term “tested combination” means a sample basic model comprised of units that are production units, or are representative of production units, of the basic model being tested. For the purposes of this waiver, the tested combination shall have the following features:

(i) The basic model of a variable refrigerant flow system used as a tested combination shall consist of one outdoor unit, with one or more compressors, that is matched with between two and five indoor units. (For systems with nominal cooling capacities greater than 150,000 Btu/h, as many as eight indoor units may be used, so as to be able to test non-ducted indoor unit combinations.) For multi-split systems, each of these indoor units shall be designed for individual operation.

(ii) The indoor units shall:

(a) Represent the highest sales model family, or another indoor model family if the highest sales model family does not provide sufficient capacity (see (b) below);

(b) Together, have a nominal cooling capacity that is between 95 percent and 105 percent of the nominal cooling capacity of the outdoor unit;

(c) Not, individually, have a nominal cooling capacity greater than 50 percent of the nominal cooling capacity of the outdoor unit;

(d) Operate at fan speeds that are consistent with the manufacturer's specifications; and

(e) Be subject to the same minimum external static pressure requirement while being configurable to produce the same static pressure at the exit of each outlet plenum when manifolded as per section 2.4.1 of 10 CFR part 430, subpart B, Appendix M.

If the alternate test procedure approved today were confined to using the definition of “tested combination” in ANSI/AHRI 1230-2010, there would be no significant change from the multi-split waivers already granted. But Daikin has asked to use ANSI/AHRI 1230-2010 as the entire alternate test procedure, which could introduce some additional changes from the previously granted waivers, which are based on ARI 340/360-2004 and the above “tested combination” definition. According to 42 U.S.C. 6314(a)(4)(B), if an industry test procedure reference in AS/HRAE 90.1 is amended, the Secretary shall amend the test procedure for the product as necessary to be consistent with the amended industry test procedure. It is therefore likely that in the future, ANSI/ASHRAE 1230-2010 will be the approved test procedure for this equipment, and DOE is considering prescribing it in the subsequent decision and order as the alternate test procedure for this Daikin waiver. For the interim waiver, DOE will continue to require the use of the alternate test procedure prescribed in the past multi-split waivers.

Therefore, as a condition for granting this interim waiver to Daikin, DOE is including an alternate test procedure similar to those granted to Mitsubishi for its R22 and R410A units. This alternate test procedure will allow Daikin to test and make energy efficiency representations for its VRV III-PB multi-split heat pump equipment. DOE has applied a similar alternate test procedure to other waivers for similar residential and commercial central air conditioners and heat pumps manufactured by Mitsubishi (72 FR 17528, April 9, 2007); Samsung (72 FR 71387, Dec. 17, 2007); Fujitsu (72 FR 71383, Dec. 17, 2007); Daikin (73 FR 39680, July 10, 2008); Daikin (74 FR 15955, April 8, 2009); Daikin (74 FR 16193, April 9, 2009); Daikin (74 FR 16373, April 10, 2009); Mitsubishi (74 FR 66315, December 15, 2009) and LG (74 FR 66330, December 15, 2009).

The alternate test procedure developed in conjunction with the Mitsubishi waiver permits Daikin to designate a “tested combination” for each model of outdoor unit. The indoor units designated as part of the tested combination must meet specific requirements. For example, the tested combination must have between two and eight indoor units so that it can be tested in available test facilities. (The “tested combination” was originally defined to consist of one outdoor unit matched with between two and five indoor units. The maximum number of indoor units in a tested combination is increased in this instance from five to eight to account for the fact that the larger-capacity equipment can accommodate a greater number of indoor units.) The tested combination must be tested according to the applicable DOE test procedure, as modified by the provisions of the alternate test procedure as set forth below. The alternate test procedure also allows manufacturers of such products to make valid and consistent representations of energy efficiency for their central air-conditioning and heat pump products.

DOE is including the following waiver language in the interim waiver for Daikin's VRV III-PB multi-split heat pump models:

(1) The petition for interim waiver filed by DaikinAC (Americas) Inc. is hereby granted as set forth in the paragraphs below.

(2) Daikin shall not be required to use existing test procedures to test or rate its VRV III-PB multi-split heat pump equipment listed above in section III, but shall be required to test and rate such equipment according to the alternate test procedure as set forth in paragraph (3).

(3) Alternate test procedure.

(A) Daikin shall be required to test the equipment listed in section III above according to the test procedures for central air conditioners and heat pumps prescribed by DOE at 10 CFR 431.96, except that Daikin shall test a tested combination selected in accordance with the provisions of subparagraph (B) of this paragraph. For every other system combination using the same outdoor unit as the tested combination, Daikin shall make representations concerning the VRV III-PB multi-split heat pump equipment covered in this waiver according to the provisions of subparagraph (C) below.

(B) Tested combination. The term tested combination means a sample basic model comprised of units that are production units, or are representative of production units, of the basic model being tested. For the purposes of this waiver, the tested combination shall have the following features:

(1) The basic model of a variable refrigerant flow system used as a tested combination shall consist of one outdoor unit, with one or more compressors, that is matched with between two and five indoor units. (For systems with nominal cooling capacities greater than 150,000 Btu/h, as many as eight indoor units may be used, so as to be able to test non-ducted indoor unit combinations). For multi-split systems, each of these indoor units shall be designed for individual operation.

(2) The indoor units shall—

(i) Represent the highest sales model family or another indoor model family if the highest sales model family does not provide sufficient capacity (see ii);

(ii) Together, have a nominal cooling capacity that is between 95% and 105% of the nominal cooling capacity of the outdoor unit;

(iii) Not, individually, have a nominal cooling capacity that is greater than 50% of the nominal cooling capacity of the outdoor unit;

(iv) Operate at fan speeds that are consistent with the manufacturer's specifications; and

(v) Be subject to the same minimum external static pressure requirement while being configurable to produce the same static pressure at the exit of each outlet plenum when manifolded as per section 2.4.1 of 10 CFR part 430, subpart B, appendix M.

(C) Representations. In making representations about the energy efficiency of its VRV III-PB multi-split heat pump equipment for compliance, marketing, or other purposes, Daikin must fairly disclose the results of testing under the DOE test procedure in a manner consistent with the provisions outlined below:

(1) For VRV III-PB multi-split heat pump combinations tested in accordance with this alternate test procedure, Daikin may make representations based on these test results.

(2) For VRV III-PB multi-split heat pump combinations that are not tested, Daikin may make representations of non-tested combinations at the same energy efficiency level as the tested combination. The outdoor unit must be the one used in the tested combination. The representations must be based on the test results for the tested combination. The representations may also be determined by an Alternative Rating Method approved by DOE.

V. Summary and Request for Comments

Through today's notice, DOE announces receipt of the Daikin petition for waiver from the test procedure applicable to Daikin's VRV III-PB multi-split heat pump equipment. For the reasons articulated above, DOE also grants Daikin an interim waiver from that procedure. As part of this notice, DOE is publishing Daikin's petition for waiver in its entirety. The petition contains no confidential information. Furthermore, today's notice includes an alternate test procedure that Daikin is required to follow as a condition of its interim waiver. In this alternate test procedure, DOE is defining a tested combination that Daikin could use in lieu of testing all retail combinations of its VRV III-PB multi-split heat pumps.

DOE is considering including ANSI/AHRI 1230-2010 as the alternate test procedure in its subsequent decision and order.

DOE is interested in receiving comments on the issues addressed in this notice. Pursuant to 10 CFR 431.401(d), any person submitting written comments must also send a copy of such comments to the petitioner, pursuant to 10 CFR 431.401(d). The contact information for the petitioner is: Chris Bellshaw, Director of Product and Engineering, Daikin AC (Americas) Inc., 1645 Wallace Drive, Suite 110, Carrollton, Texas 75006. All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

According to 10 CFR 1004.11, any person submitting information that he or she believes to be confidential and exempt by law from public disclosure should submit two copies: one copy of the document including all the information believed to be confidential, and one copy of the document with the information believed to be confidential deleted. DOE will make its own determination about the confidential status of the information and treat it according to its determination.

Issued in Washington, DC, on March 30, 2011.
Kathleen Hogan,
Deputy Assistant Secretary for Energy Efficiency, Office of Technology Development, Energy Efficiency and Renewable Energy.

November 22, 2010

Ms. Catherine Zoi

Assistant Secretary for Energy Efficiency and Renewable Energy

U.S. Department of Energy

1000 Independence Ave, SW

Washington, DC 20585-0121

Re: Petition for Waiver of Test Procedure

Dear Assistant Secretary Zoi:

Daikin AC (Americas) Inc. (DACA) respectfully petitions the Department of Energy (DOE) pursuant to 10 CFR § 431.401(a)(1) (2010) for a waiver of the test procedures applicable to commercial air conditioners and heat pumps, as established in 10 CFR § 431.96 (2010) and ARI Standard 340/360-20043, for the Daikin VRV III-PB system. The specific models for which DACA requests this waiver in the Daikin VRV III-PB product class are listed below in this Petition. DACA seeks a waiver from the existing central air conditioner and central air conditioning heat pump test procedure for the listed Daikin VRV III-PB systems because the basic models contain design criteria that prevent testing of the basic models according to the prescribed test procedures. We are simultaneously requesting an interim waiver for the same systems pursuant to 10 CFR § 431.401(a)(2) (2010). Daikin is simultaneously proposing that DOE establish AHRI Standard 1230 (2010) as the alternate test method for the Daikin VRV III-PB product class in association with the requested interim waiver and waiver.

³ The AHRI has updated this standard from version ARI 340/360-2004 to version AHRI 340-360-2007. However, DOE has not yet updated the reference to the standard in 10 CFR Part 431.

Background

DACA is a leading manufacturer of variable speed and Variable Refrigerant Volume (VRV) zoning systems that DACA offers for sale in the North American market. These products combine advanced technologies such as high efficiency variable speed compressors and fan motors with electronic expansion valves and other devices to ensure peak operating performance of the overall system and to optimize energy efficiency. DACA has designed the VRV III-PB systems to operate in commercial applications, and this product class employs zoning to provide users with peak utility of the system and with significant energy savings compared to competing technologies.

General Characteristics of DACA's Air Cooled VRV III-PB Products

DACA's VRV III-PB system has the following characteristics and applications:

• DACA's VRV III-PB products are an air conditioning system that includes numerous individually controllable discrete indoor units.

• The VRV III-PB system consists of multi-split, multi-zone units utilizing one or multiple outdoor units that serve up to sixty indoor units.

• The VRV III-PB system employs variable speed technology that matches system capacity to the current load thereby utilizing the minimum amount of energy required for optimal system operation.

• Due to its multi-zone applications, each VRV III indoor unit can be independently controlled with a local controller allowing the occupant to alter their environmental condition to meet their needs. Individually controlled system functions include temperature, fan speed and mode of operation.

• The VRV III-PB system can efficiently operate the compressor at loads as small as 7% of the rated capacity of the system, resulting in significant energy savings.

• The VRV III-PB system employs variable speed indoor and outdoor high efficiency fan motors to precisely control operating pressures and airflow rates.

• The VRV III-PB system uses electronically controlled expansion valves to precisely control refrigerant flow, superheat, sub-cooling, pump down functions and even oil flow throughout the system.

Particular Basic Models for Which a Waiver Is Requested

DACA requests a waiver from the test procedures for the following VRV III-PB basic model groups:

• VRV III-PB Series Outdoor Units:

• 460V/3-phase/60Hz Models:

○ Heat Pump models RXYQ72PBYD, RXYQ96PBYD, RXYQ120PBYD, RXYQ144PBYD, RXYQ168PBYD, RXYQ192PBYD, RXYQ216PBYD, RXYQ240PBYD, RXYQ264PBYD, RXYQ288PBYD, RXYQ312PBYD, RXYQ336PBYD, RXYQ360PBYD with nominal cooling capacities of 72,000, 96,000, 120,000, 144,000, 168,000, 192,000, 216,000, 240,000, 264,000, 288,000, 312,000, 336,000 and 360,000 Btu/hr respectively.

○ Heat Recovery models REYQ72PBYD, REYQ96PBYD, REYQ120PBYD, REYQ144PBYD (2x REMQ72PBYD), REYQ168PBYD (1x REMQ96PBYD + 1x REMQ72PBYD), REYQ192PBYD (2x REMQ96PBYD), REYQ216PBYD (1x REMQ120PBYD + 1x REMQ96PBYD), REYQ240PBYD (2x REMQ120PBYD), REYQ264PBYD (1x REMQ72PBYD + 2x REMQ96PBYD), REYQ288PBYD (1x REMQ120PBYD + 1x REMQ96PBYD + 1x REMQ72PBYD), REYQ312PBYD (2x REMQ96PBYD + 1x REMQ120PBYD), REYQ336PBYD (2x REMQ120PBYD + 1x REMQ96PBYD), with nominal cooling capacities of 72,000, 96,000, 120,000, 144,000, 168,000, 192,000, 216,000, 240,000 264,000, 288,000, 312,000 and 336,000 Btu/hr respectively.

• 208-230V/3-phase/60Hz Models:

○ Heat Pump models RXYQ72PBTJ, RXYQ96PBTJ, RXYQ120PBTJ, RXYQ144PBTJ, RXYQ168PBTJ, RXYQ192PBTJ, RXYQ216PBTJ, RXYQ240PBTJ, RXYQ264PBTJ, RXYQ288PBTJ, RXYQ312PBTJ, RXYQ336PBTJ, RXYQ360PBTJ with nominal cooling capacities of 72,000, 96,000, 120,000, 144,000, 168,000, 192,000, 216,000, 240,000, 264,000, 288,000, 312,000, 336,000 and 360,000 Btu/hr respectively.

• Heat Recovery models REYQ72PBTJ, REYQ96PBTJ, REYQ120PBTJ, REYQ144PBTJ, REYQ168PBTJ (1x REMQ96PBTJ + 1x REMQ72PBTJ), REYQ192PBTJ (2x REMQ96PBTJ), REYQ216PBTJ (1x REMQ120PBTJ + 1x REMQ96PBTJ), REYQ240PBTJ (2x REMQ120PBTJ), REYQ264PBTJ (1x REMQ72PBTJ + 2x REMQ96PBTJ), REYQ288PBTJ (1x REMQ120PBTJ + 1x REMQ96PBTJ + 1x REMQ72PBTJ), REYQ312PBTJ (2x REMQ96PBTJ + 1x REMQ120PBTJ), REYQ336PBTJ (2x REMQ120PBTJ + 1x REMQ96PBTJ), with nominal cooling capacities of 72,000, 96,000, 120,000, 144,000, 168,000, 192,000, 216,000, 240,000 264,000, 288,000, 312,000 and 336,000 Btu/hr respectively.

• Compatible Indoor Units for Above Listed Outdoor Units:

• FXAQ Series all mounted indoor units with nominal capacities of 7,500, 9,500, 12,000, 18,000 and 24,000 Btu/hr.

• FXLQ Series floor mounted indoor units with nominal capacities of 12,000, 18,000 and 24,000Btu/hr.

• FXNQ Series concealed floor mounted indoor units with nominal capacities of 12,000, 18,000 and 24,000 Btu/hr.

FXDQ Series low static ducted indoor units with nominal capacities of 7,500, 9,500, 12,000, 18,000 and 24,000 Btu/hr.

• FXSQ Series medium static ducted indoor units with nominal capacities of 7,500, 9,500, 12,000, 18,000, 24,000, 30,000, 36,000, 48,000 Btu/hr.

• FXMQ Series medium/high static ducted indoor units with nominal capacities of 7,500, 9,500, 12,000, 18,000, 24,000, 30,000, 36,000, 48,000, 72,000 and 96,000 Btu/hr.

• FXZQ Series recessed cassette indoor units with nominal capacities of 7,500, 9,500, 12,000 and 18,000 Btu/hr.

• FXFQ Series recessed cassette indoor units with nominal capacities of 9,500, 12,000, 18,000, 24,000, 30,000, 36,000 & 48,000 Btu/hr.

• FXHQ Series ceiling suspended indoor units with nominal capacities of 12,000, 24,000 and 36,000 Btu/hr.

• FXTQ Series ceiling suspended indoor units with nominal capacities of 12,000, 18,000, 24,000, 30,000, 36,000, 42,000, 48,000 and 54,000 Btu/hr.

• FXMQ-MF Series concealed ducted indoor units with nominal capacities of 48,000, 72,000, and 96,000 Btu/hr.

Design Characteristics Constituting the Grounds for DACA's Petition

DACA's VRV III-PB Series product offering consists of multiple indoor units being connected to an air-cooled outdoor unit. The indoor units for these products are available in a very large number of potential configurations, including but not limited to the following: 4-Way Cassette, Wall Mounted, Ceiling Suspended, Floor Standing, Ceiling Concealed, and Multi Position AHU. DACA is currently developing additional indoor unit models for future market introduction. There are over one million combinations possible with the current DACA VRV III product offering. It is completely impractical for testing laboratories to test a product such as the VRV III-PB Series with multiple indoor units because of the astronomical number of potential system configurations.

DACA's VRV III-PB products share many of the design characteristics and features of DACA's VRV-III, VRV-S, VRV III-C and VRV W-III product lines, and of Mitsubishi Electric and Electronics USA, Inc.'s (MEUS) CITY MULTI product class, for all of which DOE has previously granted waivers.² Like the VRV-III products for which DOE granted a waiver, the VRV III-PB products use air to reject heat. The same testing constraints and limitations apply to all of these products.

² DOE granted DACA a waiver for its VRV and VRV-S product lines on July 10, 2008. 73 Fed. Reg. 39,680. DOE granted MEUS a waiver for its CITY MULTI VRFZ class of products.69 Fed. Reg. 52,660 (August 27, 2004). DOE granted DACA a waiver for its VRV-WII product lines on January 7, 2008. 73 Fed. Reg. 1,213. DOE granted DACA a waiver for its VRV-III-C product line on December 15, 2009. 74 Fed. Reg. 66,324. DOE also granted DACA a waiver for its VRV-WIII products on January 29, 2010. 75 Fed. Reg. 4,975. DOE granted DACA a waiver for its VRV-III systems on April 8, 2009. 74 Fed. Reg. 15,955.

DOE stated the following in the notice granting DACA a waiver for VRV-III:

DOE believes that the VRV-III Daikin equipment and equipment for which waivers have previously been granted are alike with respect to the factors that make them eligible for test procedure waivers. DOE is therefore granting to Daikin a VRV-III product waiver similar to the previous MEUS multi-split waivers.

74 Fed. Reg. at 15,957.

Manufacturers of Other Basic Models Incorporating Similar Design Characteristics

The DACA VRV III-PB Series system operates in similar configurations as the VRV-III system. The reasons and rationale that DOE has already articulated to support previous DACA, MEUS, Sanyo, LG, Samsung and Fujitsu waivers for multi-split, multi-zoned air conditioners (including the DACA VRV-III system) also apply to the DACA VRV III-PB Series products. Therefore, DOE should conclude that the design characteristics of DACA's VRV III-PB product class prevent testing of the basic VRV III-PB model according to the prescribed test procedures.

Specific Testing Requirements Sought To Be Waived

The test procedures from which DACA is requesting a waiver are ARI Standard 340/360-2004 These standards, which are applicable to large commercial and industrial unitary air conditioning and heat pump equipment, are referenced in Table 1 to 10 CFR § 431.96, and are made applicable to Daikin's large commercial air cooled VRV III-PB products in 10 CFR § 431.96(a).

Detailed Discussion of Need for Requested Waiver

Although the capacity of Daikin's VRV III-PB product class are within the scope of ARI 340/360-2004, the design characteristics of the VRV III-PB product class prevent testing of the basic model according to the prescribed test procedures. The testing procedures outlined in these standards do not provide for:

• The testing of multi-split products when all connected indoor units physically cannot be located in a single room.

• The operation of indoor units at several different static pressure ratings during a single test.

• The precise number of part load tests that ARI Standard 340/360-2004 requires for fully or infinitely variable speed products.

DACA especially requires the requested waiver because ARI Standard 340/360-2004 provide no direction or guidance about how to test systems with millions of combinations of indoor units configurable to a single outdoor unit.

A further reason that DACA needs the requested waiver is that ARI Standard 340/360-2004 does not provide a test method to measure part load performance of a system operating in simultaneous cooling and heating modes (i.e., performing both heating and cooling functions at the same time).

Yet another problem that prevents testing of the VRV III-PB Series product class under these two standards, and another major reason why DACA requires the requested waiver, is the wide variety of indoor unit static pressure ratings available with these and other multi-split products. Testing facilities cannot effectively control multiple indoor static pressures as would be required to test many of the indoor unit combinations available. To accomplish such testing, a testing lab would be required to use a large number of test rooms simultaneously, and each test room would have to be networked into the data recording instrumentation. Also, extensive piping configurations would need to be routed throughout the various test rooms. This process would be extraordinarily expensive, and the logistical challenges presented by the testing might be insurmountable.

Alternate Test Procedure

DACA proposes that DOE apply AHRI Standard 1230-2010: Performance Rating of Variable Refrigerant Flow (VRF) Multi-Split Air-Conditioning and Heat Pump Equipment, as the alternate test procedure for DOE to apply to the covered VRV III-PB products as a condition of the requested waiver and interim waiver. The Air-Conditioning, Heating & Refrigeration Institute (AHRI) has recently adopted this standard. AHRI developed AHRI Standard 1230-2010 to apply to multi-split air conditioning and heat pump equipment like the VRV III-PB, and AHRI intends to eventually submit its Standard 1230-2010 to DOE for inclusion in 10 CFR Part 431 as the proposed test method for the product category that includes DACA's VRV III-PB class.

ASHRAE Standard 90.1 will incorporate AHRI Standard 1230-2010 by reference effective January 1, 2011. Also, EPA has recognized Standard 1230-2010 in the eligibility requirements (see: http://www.energystar.gov/index.cfm?c=lchvac.pr_crit_lchvac) for the Light Commercial EnergyStar category. Because DACA believes that AHRI Standard 1230-2010 will eventually become the applicable test standard for VRV III-PB products under 10 CFR Part 431, and because AHRI Standard 1230-2010 will adequately address all of the conditions that are causing DACA to request this testing waiver, DACA requests that DOE make AHRI Standard 1230-2010 immediately applicable to VRV III-PB as a term of a waiver and interim waiver.

DOE can obtain a copy of AHRI Standard 1230-10 from the following web site: http://www.ahrinet.org/Content/FindaStandard_218.aspx?Listing_PK=1120

Application for Interim Waiver

DACA also hereby applies pursuant to 10 CFR § 431.401(a)(2) for an interim waiver of the applicable test procedure requirements for the VRV III-PB product class models listed above. The basis for DACA's Application for Interim Waiver follows.

DACA is likely to succeed in its Petition for Waiver because there is no reasonable argument that ARI Standard 340/360 can be properly applied to DACA's VRV III-PB product class. As explained above in the DACA's Petition for Waiver, the design characteristics of the VRV III-PB product class clearly prevent testing of the basic model according to the prescribed test procedures. The likelihood of DOE approving DACA's Petition for Waiver is buttressed by the DOE's history of approving previous waiver requests from DACA and from several other manufacturers for other products that are similar to the VRV III-PB product class, based on the same rationale put forth by DACA in this Petition for Waiver. See preceding discussion of waivers granted by DOE to MEUS, Fujitsu General, Sanyo Fisher (USA) Corp, LG Electronics, Inc., and Quietside Corporation (Samsung Air Conditioning).

Additionally, DACA is likely to suffer economic hardship and competitive disadvantage if DOE does not grant its interim waiver request. DACA is now preparing to introduce its VRV III-PB product class in a matter of months. If we must wait for completion of the normal waiver consideration and issuance process, DACA will be forced to delay the opportunity to begin recouping through product sales its research, development and production costs associated with the VRV III-PB product class. In addition to these economic hardship costs, DACA will lose market share to MEUS, especially if DOE grants MEUS' pending interim waiver application for its CITY MULTI R2 and Y product classes, which will compete directly with DACA's VRV III-PB product class.

DOE approval of DACA's interim waiver application is also supported by sound public policy reasons. As DOE stated in its August 14, 2006 approval of DACA's interim waiver for the VRV and VRV-S product classes:

[I]n those instances where the likely success of the Petition for Waiver has been demonstrated, based upon DOE having granted a waiver for a similar product design, it is in the public interest to have similar products tested and rated for energy consumption on a comparable basis.

The VRV III-PB product class will provide superior comfort to the end user, will allow for independent zoning of facilities, and will incorporate state of the art technology such as variable speed compressors utilizing neodymium magnets to increase efficiency and electronic control of compressor speed, fan speed and even metering device opening positions. The VRV III-PB product class includes technologies that will increase system efficiency and reduce national energy consumption, and that will also offer a new level of comfort and control to end users.

DACA requests that DOE approve our Application for Interim Waiver so we can bring the new highly energy efficient technology represented by the VRV III-PB product class to the market as soon as possible, thereby allowing the U.S. consumer to benefit from our high technology and high efficiency product, and from competition for other manufacturers who may have already received waivers.

Confidential Information

DACA makes no request to DOE for confidential treatment of any information contained in this Petition for Waiver and Application for Interim Waiver.

Conclusion

Daikin AC (Americas) Inc. respectfully requests that DOE approve its Petition for Waiver of the applicable test procedure to DACA for the VRV III-PB product design, and to approve an approval for its Application for Interim Waiver. DOE's failure to issue an interim waiver from test standards would cause significant economic hardship to DACA by preventing DACA from marketing these products even though DOE has previously granted a waiver to other products currently being offered in the market with similar design characteristics.

We would be pleased to respond to any questions you may have regarding this Petition for Waiver and Application for Interim Waiver. Please contact Chris Bellshaw, Director of Product and Engineering at 972-245-1510 or by e-mail at chris.bellshaw@daikinac.com if you have any questions.

Sincerely,

Akinori Atarashi

President

Daikin AC (Americas) Inc.

1645 Wallace Drive

Suite 110

Carrollton, Texas 75006

(Submitted in triplicate)

I certify that DACA has sent copies of this Petition for Waiver from Testing Requirements to the following known manufacturers of domestically marked units of the same product type:

Fujitsu General America, Inc.:

Arturo Thur De Koos

Engineering & Technical Support

Fujitsu General America, Inc.

353 Route 46 West

Fairfield, NJ 07004

LG Electronics USA, Inc.:

John I. Taylor

Vice President

Government Relations and Communications

LG Electronics USA, Inc.

1776 K Street, NW

Washington, DC 20006

Mitsubishi Electric & Electronics USA, Inc.:

William Rau

Senior Vice President and General Manager

Mitsubishi Electric & Electronics USA, Inc.

4300 Lawrenceville-Suwanee Road

Suwanee, GA 30024

Samsung Air Conditioning:

John Miles

Vice President Sales & Engineering

Quietside Corporation

Samsung Air Conditioning

8750 Pioneer Boulevard

Santa Fe Springs, CA 90670

Sanyo Fisher (USA) Corp.:

Gary Nettinger

Vice President, Technical and Service

Sanyo Fisher (USA) Corp.

1690 Roberts Blvd., Suite 110

Kennesaw, GA 30144

[FR Doc. 2011-8220 Filed 4-5-11; 8:45 am]

BILLING CODE 6450-01-P